NUCLEAR REGULATORY COMMISSION

Draft Regulatory Guide: Issuance, Availability

AGENCY: Nuclear Regulatory Commission.

ACTION: Notice of Issuance and Availability of Draft Regulatory Guide, DG-1187.

FOR FURTHER INFORMATION CONTACT: Jacob Philip, U. S. Nuclear Regulatory Commission, Washington, DC 20555-0001, telephone: (301) 415-6211 or e-mail to Jacob.Philip@nrc.gov.

SUPPLEMENTARY INFORMATION:

I. Introduction

The U.S. Nuclear Regulatory Commission (NRC) has issued for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Concrete Radiation Shields and Generic Shield Testing for Nuclear Power Plants,” is temporarily identified by its task number, DG-1187, which should be mentioned in all related correspondence. DG-1187 is proposed Revision 1 of Regulatory Guide 1.69.

This guide describes a method that the staff of the NRC considers acceptable for use in complying with the regulations for concrete radiation shields for nuclear power plants.

As stated in Title 10, Section 20.1201, “Occupational Dose Limits for Adults,” of the Code of Federal Regulations (10 CFR 20.1201), licensees shall control the occupational dose to individual adults to the limits stated therein. Furthermore, 10 CFR 20.1101(b) provides that licensees shall use, to the extent practicable, procedures and engineering controls based upon sound radiation principles to achieve occupational doses and doses to members of the public that are as low as reasonably achievable. General Design Criterion 1, “Quality Standards and Records,” of Appendix A, “Quality Design Criteria for Nuclear Power Plants,” to 10 CFR part 50, “Licensing of Production and Utilization Facilities,” requires that structures, systems, and components important to safety be designed, fabricated, erected, and tested to quality standards commensurate with the importance of the safety function to be performed. Appendix B, “Quality Assurance Criteria for Nuclear Power Plants and Fuel Reprocessing Plants,” to 10 CFR part 50 requires that measures be established to ensure design control and inspection and test controls. Appendix B also requires that activities affecting quality be accomplished under suitably controlled conditions. This guide describes some bases acceptable to the NRC staff for implementing the above requirements with regard to the design and construction of concrete radiation shields in nuclear power plants.

II. Further Information

The NRC staff is soliciting comments on DG-1187. Comments may be accompanied by relevant information or supporting data, and should mention DG-1187 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: nrcrep.resource@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-1187 may be directed to Jacob Philip at (301) 415-6211 or e-mail to Jacob.Philip@nrc.gov.

Comments would be most helpful if received by January 9, 2009. Comments received after that date will be considered if it is practical to do so, but the NRC is able to ensure consideration only for comments received on or before this date. Although a time limit is given, comments and suggestions in connection with items for inclusion in guides currently being developed or improvements in all published guides are encouraged at any time.

Electronic copies of DG-1187 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML082190117.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 5th day of November, 2008.
For the Nuclear Regulatory Commission.
Harriet Karagiannis,
Regulatory Guide Development Branch, Division of Engineering, Office of Nuclear Regulatory Research.

[FR Doc. E8-26804 Filed 11-10-08; 8:45 am]

BILLING CODE 7590-01-P